DEPARTMENT OF HEALTH AND HUMAN SERVICES

Administration for Children and Families

Submission for OMB Review; Comment Request

Title: Head Start Program Information Report.

OMB No.: 0980-0017.

Description: Section 650 of the Head Start Act requires the Secretary of the Department of Health and Human Services to prepare and submit a report to the Congress at least once every two years. This report shall include information contained in the document entitled the “Head Start Program Information Report.” The Head Start Bureau is proposing to renew approval of this information collection document.

Respondents: Head Start and Early Head Start grantees and delegate agencies.

Annual Burden Estimates
Instrument | Number of respondents | Number of responses per respondent | Average burden hours per response | Total burden hours
Head Start Program Information Report | 2690 | 1 | 4.0 | 10,760
Estimated Total Annual Burden Hours: 10,760.

Additional Information: Copies of the proposed collection may be obtained by writing to the Administration for Children and Families, Office of Administration, Office of Information Services, 370 L'Enfant Promenade, SW., Washington, DC 20447, Attn: ACF Reports Clearance Officer. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: January 5, 2005.
Robert Sargis,
Reports Clearance, Officer.

[FR Doc. 05-679 Filed 1-12-05; 8:45 am]

BILLING CODE 4184-01-M